SMALL BUSINESS ADMINISTRATION

[Disaster Declaration # 17677 and # 17678; Illinois Disaster Number IL-00071]

Presidential Declaration Amendment of a Major Disaster for the State of Illinois

AGENCY: U.S. Small Business Administration.

ACTION: Amendment 1.

SUMMARY: This is an amendment of the Presidential declaration of a major disaster for the State of Illinois (FEMA-4676-DR), dated 10/14/2022.

Incident: Severe Storm and Flooding.

Incident Period: 07/25/2022 through 07/28/2022.

DATES: Issued on 11/21/2022.

Physical Loan Application Deadline Date: 12/16/2022.

Economic Injury (EIDL) Loan Application Deadline Date: 07/14/2023.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the State of Illinois, dated 10/14/2022, is hereby amended to extend the deadline for filing applications for physical damages as a result of this disaster to 12/16/2022.

All other information in the original declaration remains unchanged.

(Catalog of Federal Domestic Assistance Number 59008)

Rafaela Monchek,
Acting Associate Administrator for Disaster Assistance.

[FR Doc. 2022-25913 Filed 11-25-22; 8:45 am]

BILLING CODE 8026-09-P